DEPARTMENT OF THE INTERIOR

National Park Service

[NPS-WASO-NAGPRA-27656; PPWOCRADN0-PCU00RP15.R50000]

Native American Graves Protection and Repatriation Review Committee: Notice of Nomination Solicitation

AGENCY: National Park Service, Interior.

ACTION: Request for nominations.

SUMMARY: The National Park Service is soliciting nominations for two members of the Native American Graves Protection and Repatriation Review Committee. The Secretary of the Interior will appoint two members from nominations submitted by national museum organizations or national scientific organizations. The Review Committee was established by the Native American Graves Protection and Repatriation Act of 1990 (NAGPRA), and is regulated by the Federal Advisory Committee Act (FACA).

DATES: Nominations must be received by September 9, 2019.

ADDRESSES: Melanie O'Brien, Designated Federal Officer, Native American Graves Protection and Repatriation Review Committee, National NAGPRA Program (2253), National Park Service, 1849 C Street NW, Room 7360, Washington, DC 20240, (202) 354-2201 or via email nagpra_dfo@nps.gov.

FOR FURTHER INFORMATION CONTACT: Melanie O'Brien, Designated Federal Officer, Native American Graves Protection and Repatriation Review Committee, National NAGPRA Program (2253), National Park Service, 1849 C Street NW, Room 7360, Washington, DC 20240, (202) 354-2201 or via email nagpra_dfo@nps.gov.

SUPPLEMENTARY INFORMATION: The Review Committee is responsible for:

1. Monitoring the NAGPRA inventory and identification process;

2. Reviewing and making findings related to the identity or cultural affiliation of cultural items, or the return of such items;

3. Facilitating the resolution of disputes;

4. Compiling an inventory of culturally unidentifiable human remains and developing a process for disposition of such remains;

5. Consulting with Indian tribes and Native Hawaiian organizations and museums on matters within the scope of the work of the Review Committee affecting such tribes or organizations;

6. Consulting with the Secretary of the Interior in the development of regulations to carry out NAGPRA; and

7. Making recommendations regarding future care of repatriated cultural items.

The Review Committee consists of seven members appointed by the Secretary of the Interior. The Secretary may not appoint Federal officers or employees to the Review Committee. Three members are appointed from nominations submitted by Indian tribes, Native Hawaiian organizations, and traditional Native American religious leaders. At least two of these members must be traditional Indian religious leaders. Three members are appointed from nominations submitted by national museum or scientific organizations. One member is appointed from a list of persons developed and consented to by all of the other members.

Members serve as special Government employees, and are required to complete ethics training and file a confidential financial disclosure form on an annual basis. Members are appointed for 4-year terms and incumbent members may be reappointed for 2-year terms. The Review Committee's work is completed during public meetings. The Review Committee attempts to meet in person twice a year and meetings normally last two or three days. In addition, the Review Committee may also meet by public teleconference one or more times per year.

Review Committee members serve without pay but are reimbursed for each day of meeting attendance. Review Committee members are also reimbursed for travel expenses incurred in association with Review Committee meetings (25 U.S.C. 3006(b)(4)). Additional information regarding the Review Committee, including the Review Committee's charter, meeting protocol, and dispute resolution procedures, is available on the National NAGPRA Program website, at https://www.nps.gov/nagpra/review/.

Nominations must:

1. Be submitted by a national museum organization or national scientific organization and should be submitted on the official letterhead of the organization.

2. Affirm that the signatory is the official authorized by the organization to submit the nomination.

3. Affirm that the organization's activity pertains or relates to the United States as a whole, as opposed to a lesser geographical scope.

4. Provide the nominator's original signature, daytime telephone number, and email address.

5. Include the nominee's full legal name, home address, home telephone number, and email address.

Nominations should include a resume providing an adequate description of the nominee's qualifications, including information that would enable the Department of the Interior to make an informed decision regarding meeting the membership requirements of the Committee and permit the Department of the Interior to contact a potential member.

Public Disclosure of Comments: Before including your address, phone number, email address, or other personal identifying information with your nomination, you should be aware that your entire nomination—including your personal identifying information—may be made publicly available at any time. While you can ask us in your nomination to withhold your personal identifying information from public review, we cannot guarantee that we will be able to do so.

Authority: 5 U.S.C. Appendix 2; 25 U.S.C. 3006.

Alma Ripps,
Chief, Office of Policy.

[FR Doc. 2019-12173 Filed 6-10-19; 8:45 am]

BILLING CODE 4312-52-P